DEPARTMENT OF THE INTERIOR

National Park Service

Notice of Inventory Completion: Museum of Cultural and Natural History, Central Michigan University, Mt. Pleasant, MI; Correction

AGENCY: National Park Service, Interior.

ACTION: Notice; correction.

Notice is here given in accordance with the Native American Graves Protection and Repatriation Act (NAGPRA), 25 U.S.C. 3003, of the completion of an inventory of human remains and associated funerary objects in the possession of the Museum of Cultural and Natural History, Central Michigan University, Mt. Pleasant, MI. The human remains and associated funerary objects were removed from Arenac, Isabella, and Saginaw Counties, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice replaces a Notice of Inventory Completion previously published in the Federal Register (75 FR 16175-16176, March 31, 2010) in order to correctly list the name of an Indian tribe, and the listing of the Indian tribes that were parties to the disposition request.

A detailed assessment of the human remains was made by the Museum of Cultural and Natural History professional staff and physical anthropologists from Western Michigan University, Kalamazoo, MI, and the University of Western Ontario, Canada, and in consultation with representatives of the Little Traverse Bay Bands of Odawa Indians, Michigan, and the Saginaw Chippewa Indian Tribe of Michigan.

In 1970, human remains representing a minimum of two individuals were removed from Point Lookout, 20AC18, in Arenac County, MI. Students from Central Michigan University and amateur archeologists excavated the site and the material was immediately turned over to the Museum of Cultural and Natural History. No known individuals were identified. The 11 associated funerary objects are 2 (reconstructed) ceramic vessels, 1 piece of worked bone, 1 small sheet of copper, 1 bag of ochre sand, 1 stone object, 1 bag of ceramic sherds, 1 group of copper beads and bead fragments, 1stone tool, 1 bone needle, and 1 tooth from an unknown animal.

Archeological evidence dates the material from the Early Late Woodland Era, and the determination is supported by publications of the State Archaeologist's Office of Michigan. The human remains were identified as being of Native American ancestry based on archeological dating and osteological examination.

In 1970-1971, human remains representing a minimum of 18 individuals were removed from Indian Mound Park, 20IB1, in Isabella County, MI. Faculty and students from Central Michigan University excavated the site and the material was immediately turned over to the Museum of Cultural and Natural History. No known individuals were identified. The five associated funerary objects are one celt, one projectile point, and three ceramic sherds.

Archeological evidence dates the material from the Early Late Woodland Era, and the determination is supported by publications of the State Archaeologist's Office of Michigan. The human remains were identified as being of Native American ancestry based on archeological dating and osteological examination.

From 1968 to 1970, and in 1972, human remains representing a minimum 124 individuals were removed from the Frazier-Tyra site, 20SA9, in Saginaw County, MI. Amateur archeologists excavated the site from 1968 to 1970, and turned over the material to the Anthropology Department of Central Michigan University, which transferred it to the Museum of Cultural and Natural History in the early 1990s. Students from Central Michigan University excavated the site again in 1972, and immediately turned over the materials they found to the Museum of Cultural and Natural History. No known individuals were identified. The 372 associated funerary objects are 285 ceramic sherds, 76 pieces of lithic debitage, 4 scrapers, 1 piece of copper, 1 abrading stone, 1 projectile point, 1 piece of conch, 1 bag of ochre, 1 pipe and 1 pipe fragment.

Archeological evidence dates the material from the Early Late Woodland Era, and the determination is supported by publications of the State Archaeologist's Office of Michigan. The human remains were identified as being of Native American ancestry based on archeological dating and osteological examination.

The area of Arenac, Isabella, and Saginaw Counties in mid-Michigan has a long established history of Native American occupation before European encroachment in the early 17th century. The Anishnaabek, which is composed of the Odawa/Ottawa, Ojibwe/Chippewa and Potawatomi, have long called this area home. Officials of the Museum of Cultural and Natural History have reasonably determined that the individuals described above from Arenac, Isabella, and Saginaw Counties are Native American; however, officials of the Museum of Cultural and Natural History have determined that the evidence is insufficient to determine cultural affiliation with any present-day Indian tribe.

Officials of the Museum of Cultural and Natural History have determined that, pursuant to 25 U.S.C. 3001(9), the human remains described above represent the physical remains of 144 individuals of Native American ancestry. Officials of the Museum of Cultural and Natural History also have determined that, pursuant to 25 U.S.C. 3001(3)(A), the 388 objects described above are reasonably believed to have been placed with or near individual human remains at the time of death or later as part of the death rite or ceremony. Lastly, officials of the Museum of Cultural and Natural History have determined that, pursuant to 25 U.S.C. 3001(2), a relationship of shared group identity cannot be reasonably traced between the Native American human remains and associated funerary objects and any present-day Indian tribe.

The Native American Graves Protection and Repatriation Review Committee (Review Committee) is responsible for recommending specific actions for disposition of culturally unidentifiable human remains. In February 2009, the Museum of Cultural and Natural History requested that the Review Committee recommend disposition of the 144 culturally unidentifiable human remains and associated funerary objects. Supporters of the disposition were the Bay Mills Indian Community, Michigan; Grand Traverse Band of Ottawa and Chippewa Indians, Michigan; Hannahville Potawatomi Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Pokagon Band of Potawatomi Indians, Michigan; Saginaw Chippewa Indian Tribe of Michigan; Sault Ste. Marie Tribe of Chippewa Indians of Michigan; Sac & Fox Nation, Oklahoma; and Wyandotte Nation, Oklahoma. According to documentation submitted by the museum, parties of the disposition agreement were the Bay Mills Indian Community, Michigan; Grand Traverse Band of Ottawa and Chippewa Indians, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Saginaw Chippewa Indian Tribe of Michigan; Sault Ste. Marie Tribe of Chippewa Indians of Michigan; and Wyandotte Nation, Oklahoma.

The Review Committee considered the proposal at its May 23 - 24, 2009, meeting and recommended disposition of the human remains and associated funerary objects to the Indian tribes. The Secretary of the Interior concurred with the Review Committee's recommendation. A September 16, 2009, letter on behalf of the Secretary of Interior from the Designated Federal Official transmitted the authorization for the museum to effect disposition of the culturally unidentifiable human remains and associated funerary objects contingent on the publication of a Notice of Inventory Completion in the Federal Register. This notice fulfills that requirement. In the same letter, the Secretary recommended the transfer of the associated funerary objects to the Indian tribes listed above to the extent allowed by Federal, state, or local law.

Representatives of any other Indian tribe that believes itself to be culturally affiliated with the human remains and associated funerary objects should contact Dr. Pamela Gates, NAGPRA Representative, Museum of Cultural and Natural History, 103 Rowe Hall, Central Michigan University, Mt. Pleasant, MI 48859, telephone (989) 774-3341, before September 2, 2010. Disposition of the human remains and associated funerary objects to the Bay Mills Indian Community, Michigan; Grand Traverse Band of Ottawa and Chippewa Indians, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Saginaw Chippewa Indian Tribe of Michigan; Sault Ste. Marie Tribe of Chippewa Indians of Michigan; and/or Wyandotte Nation, Oklahoma, may proceed after that date if no additional claimants come forward.

The Museum of Cultural and Natural History is responsible for notifying the Bay Mills Indian Community, Michigan; Grand Traverse Band of Ottawa and Chippewa Indians, Michigan; Hannahville Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Pokagon Band of Potawatomi Indians, Michigan and Indiana; Sac & Fox Nation, Oklahoma; Saginaw Chippewa Indian Tribe of Michigan; Sault Ste. Marie Tribe of Chippewa Indians of Michigan; and Wyandotte Nation, Oklahoma, that this notice has been published.

Dated: July 26, 2010
Sherry Hutt,
Manager, National NAGPRA Program.

[FR Doc. 2010-19000 Filed 8-2-10; 8:45 am]

BILLING CODE 4312-50-S